DEPARTMENT OF DEFENSE

Office of the Secretary

[Docket ID DoD-2009-OS-0129]

Privacy Act of 1974; Systems of Records

AGENCY: National Security Agency/Central Security Service, DoD.

ACTION: Notice to Amend a System of Records.

SUMMARY: The National Security Agency (NSA) is proposing to amend a system of records notice in its inventory of record systems subject to the Privacy Act of 1974, (5 U.S.C. 552a), as amended.

DATES: This proposed action will be effective without further notice on September 18, 2009 unless comments are received which would result in a contrary determination.

ADDRESSES: Send comments to the National Security Agency/Central Security Service, Freedom of Information Act and Privacy Act Office, 9800 Savage Road, Suite 6248, Ft. George G. Meade, MD 20755-6248.

FOR FURTHER INFORMATION CONTACT: Ms. Anne Hill at (301) 688-6527.

SUPPLEMENTARY INFORMATION: The National Security Agency's system of notices subject to the Privacy Act of 1974 (5 U.S.C. 552a), as amended, have been published in the Federal Register and are available from the address above.

The specific changes to the records system being amended are set forth below followed by the notices, as amended, published in their entirety. The proposed amendments are not within the purview of subsection (r) of the Privacy Act of 1974, (5 U.S.C. 552a), as amended, which requires the submission of a new or altered system report.

Dated: August 12, 2009.
Patricia L. Toppings,
OSD Federal Register Liaison Officer, Department of Defense.

GNSA 14

System Name:

NSA/CSS Library Patron File Control System (February 22, 1993, 58 FR 10531).

Changes:

* * * * *

Categories of records in the system:

Delete entry and replace with “File consists of borrower's name, Standard Identifier (SID), work organization, work telephone number, contracting sponsor's name, and library materials borrowed”.

Authority for maintenance of the system:

Delete entry and replace with “Section 10 of the National Security Agency Act of 1959, Public Law 86-36 (50 U.S.C. 402 note).”

* * * * *

Storage:

Delete entry and replace with “Electronic storage media.”

Retrievability:

Delete entry and replace with “By name, Standard Identifier (SID), or by title of the library material borrowed.”

Safeguards:

Delete entry and replace with “Buildings are secured by a series of guarded pedestrian gates and checkpoints. Access to facilities is limited to security-cleared personnel and escorted visitors only. Access to electronic records is limited and controlled by computer password protection.”

* * * * *

System manager(s) and address:

Delete entry and replace with “Chief, Advanced Intelligence Research Services, National Security Agency/Central Security Service, Ft. George G. Meade, MD 20755-6000.”

Notification procedure:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, and mailing address.”

Record access procedures:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, and mailing address.”

Contesting record procedures:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

Record Source categories;

Delete entry and replace with “Contents of the record are obtained from the individual borrower and from the Searchlight database.”

* * * * *

GNSA 14

System name:

NSA/CSS Library Patron File Control System

System location:

National Security Agency/Central Security Service, Ft. George G. Meade, MD 20755-6000.

Categories of individuals covered by the system:

Borrowers of library materials from NSA/CSS libraries.

Categories of records in the system:

File consists of borrower's name, Standard Identifier (SID), work organization, work telephone number, contracting sponsor's name, and library materials borrowed.

Authority for maintenance of the system:

Section 10 of the National Security Agency Act of 1959, Public Law 86-36 (50 U.S.C. 402 note).

Purpose(s):

To track and administer the use of NSA/CSS library materials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The `DoD Blanket Routine Uses' set forth at the beginning of the NSA/CSS' compilation of systems of records notices apply to this system.

Policies and practices for storing, retrieving, accessing, retaining, and disposing of records in the system:

Storage:

Electronic storage media.

Retrievability:

By name, Standard Identifier (SID), or by title of the library material borrowed.

Safeguards:

Buildings are secured by a series of guarded pedestrian gates and checkpoints. Access to facilities is limited to security-cleared personnel and escorted visitors only. Access to electronic records is limited and controlled by computer password protection.

Retention and disposal:

Once a borrower has registered with the library, the borrower remains registered until he/she leaves the Agency. Disposal of records is accomplished by deletion from the database.

System manager(s) and address:

Chief, Advanced Intelligence Research Services, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Written inquiries should contain the individual's full name, and mailing address.

Record access procedures:

Individuals seeking access to information about themselves contained in this system should address written inquiries to the National Security Agency/Central Security Service, Freedom of Information Act/Privacy Act Office, 9800 Savage Road, Ft. George G. Meade, MD 20755-6000.

Written inquiries should contain the individual's full name, and mailing address.

Contesting record procedures:

The NSA/CSS rules for contesting contents and appealing initial determinations are published at 32 CFR part 322 or may be obtained by written request addressed to the National Security Agency/Central Security Service, Freedom of Information Act/Privacy Act Office, 9800 Savage Road, Ft. George G. Meade, MD 20755-6000.

Record source categories:

Contents of the record are obtained from the individual borrower and from the Searchlight database.

Exemptions claimed for the system:

Portions of this file may be exempt under 5 U.S.C. 552a(k)(4), as applicable.

An exemption rule for this record system has been promulgated according to the requirements of 5 U.S.C. 553(b)(1), (2), and (3), (c) and (e) and published in 32 CFR part 322. For additional information contact the system manager.

[FR Doc. E9-19868 Filed 8-18-09; 8:45 am]

BILLING CODE 5001-06-P